DEPARTMENT OF ENERGY

Federal Energy Regulatory Commission

[Docket No. ER15-402-001; Docket No. ER15-817-000; Docket No. ER15-861-000]

California Independent System Operator Corporation; Notice of FERC Staff Attendance

The Federal Energy Regulatory Commission (Commission) hereby gives notice that on March 5, 2015 members of its staff will attend the following teleconferences to be conducted by the California Independent System Operator (CAISO). The agenda and other documents for the teleconferences are available on the CAISO's Web site, www.caiso.com.

—Energy Imbalance Market Transitional Committee

—Market Update

Sponsored by the CAISO, the teleconferences are open to all market participants and staff's attendance is part of the Commission's ongoing outreach efforts. The teleconferences may discuss matters at issue in the above captioned dockets.

For further information, contact Saeed Farrokhpay at saeed.farrokhpay@ferc.gov (916) 294-0322.

Dated: February 27, 2015.
Nathaniel J. Davis, Sr.,
Deputy Secretary.

[FR Doc. 2015-05246 Filed 3-5-15; 8:45 am]

BILLING CODE 6717-01P